DEPARTMENT OF DEFENSE

Office of the Secretary

Notice of Availability of The National Missile Defense Deployment Final Environmental Impact Statement

Correction

In notice document 00-32046, on page 78475 in the issue of Friday, December 15, 2000, make the following correction:

On page 78475, in the third column, at the end of the first full paragraph, the internet site should read “www.acq.osd.mil/bmdo/bmdolink/html/nmd.html.”.

[FR Doc. C0-32046 Filed 12-27-00; 8:45 am]

BILLING CODE 1505-01-D

SECURITIES AND EXCHANGE COMMISSION

[Release No. 34-43507; File No. SR-NASD-98-11]

Self-Regulatory Organizations; Notice of Filing of Proposed Rule Change and Amendment Nos. 1, 2, and 3 by the National Association of Securities Dealers, Inc. Concerning Related Performance Information

Correction

In notice document 00-28653 beginning on page 67025 in the issue of Wednesday, November 8, 2000, make the following correction:

On page 67025, in the third column, in paragraph (1), beginning on the 13th line, remove the sentence that begins with “However” and add the following sentence in its place: “[However, communications may not include the performance of an existing fund for the purposes of promoting investment in a similar, but new investment option (i.e., clone fund or model fund) available in a variable contract.]”

[FR Doc. C0-28653 Filed 12-27-00; 8:45 am]

BILLING CODE 1505-01-D